DEPARTMENT OF STATE

[Public Notice: 11690]

30-Day Notice of Proposed Information Collection: Application for Immigrant Visa and Alien Registration

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments directly to the Office of Management and Budget (OMB) up to 30 days after date of publication in the Federal Register.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Tonya Whigham at PRA_BurdenComments@state.gov or (202)-485-7586.

SUPPLEMENTARY INFORMATION: • Title of Information Collection: Application for Immigrant Visa and Alien Registration.

• OMB Control Number: 1405-0185.

• Type of Request: Revision of a Currently Approved Collection.

• Originating Office: CA/VO.

• Form Number: DS-260, DS-230.

• Respondents: Immigrant Visa Applicants.

• Estimated Number of Respondents: 730,000.

• Estimated Number of Responses: 730,000.

• Average Time per Response: 155 minutes.

• Total Estimated Burden Time: 1,885,833.33 hours.

• Frequency: Once per respondent's application.

• Obligation to respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Electronic Application for Immigrant Visa and Alien Registration (DS-260) is used to collect biographical information from individuals seeking an immigrant visa. This information collection is the Department's main immigrant visa application form and is used by most immigrant visa applicants.

The paper-based Application for Immigrant Visa and Alien Registration (DS-230) is primarily used to collect biographical information from individuals seeking for Cuban Family Reunification Parole. While this discretionary parole authority is exercised by the Department of Homeland Security, an applicant must demonstrate that he or she is eligible for an immigrant visa.

In rare circumstances, an applicant for an immigrant visa may complete the DS-230 in lieu of the online version of the application, the DS-260. Consular officers use the information collected by both versions of the form to elicit information necessary to determine an applicant's immigrant visa eligibility. Applicants must request permission to use the DS-230 from the consular section at which they intend to apply for their immigrant visa.

Methodology

The DS-260 is submitted electronically over an encrypted connection to the Department via the internet. The applicant will be instructed to print a confirmation page containing a bar coded record locator, which will be scanned at the time of processing.

Applicants using the DS-230 will complete the form and submit it directly to a consular post. A consular officer will review the submitted application to determine whether the applicant is eligible for an immigrant visa. To submit the DS-230 in lieu of a DS-260 the applicant must first receive permission from the consular officer.

Julie M. Stufft,
Deputy Assistant Secretary, Bureau of Consular Affairs, Department of State.

[FR Doc. 2022-06429 Filed 3-25-22; 8:45 am]

BILLING CODE 4710-06-P